DEPARTMENT OF TRANSPORTATION

Federal Aviation Administration

Agency Information Collection Activities: Requests for Comments; Clearance of a Renewed Approval of Information Collection: Certification: Airmen Other Than Flight Crewmembers, Subpart C, Aircraft Dispatchers and App. A Aircraft Dispatcher

AGENCY: Federal Aviation Administration (FAA), DOT.

ACTION: Notice and request for comments.

SUMMARY: In accordance with the Paperwork Reduction Act of 1995, FAA invites public comments about our intention to request the Office of Management and Budget (OMB) approval to renew an information collection. The Federal Register Notice with a 60-day comment period soliciting comments on the following collection of information was published on August 23, 2018. The collection involves the information that each applicant for an aircraft dispatcher certificate or FAA approval of an aircraft dispatcher course must submit to the FAA. These applications, reports and training course materials are provided to the local Flight Standards District Office of the FAA that oversees the certificate and FAA approvals. The information to be collected will be used to and/or is necessary to determine qualification and the ability of the applicant to safely dispatch aircraft. Without this collection of information, applicants for a certificate or course approval would not be able to receive certification or approval. The collection of information for those who choose to train aircraft dispatcher applicants is to protect the applicants by ensuring that they are properly trained.

DATES: Written comments should be submitted by November 30, 2018.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW, Washington, DC 20503.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

FOR FURTHER INFORMATION CONTACT: Barbara Hall at (940) 594-5913, or by email at: Barbara.L.Hall@faa.gov.

SUPPLEMENTARY INFORMATION:

OMB Control Number: 2120-0648.

Title: Certification: Airmen Other Than Flight Crewmembers, Subpart C, Aircraft Dispatchers and App. A Aircraft Dispatcher.

Form Numbers: There are no forms associated with this collection.

Type of Review: Renewal of an information collection.

Background: The Federal Register Notice with a 60-day comment period soliciting comments on the following collection of information was published on August 23, 2018 (83 FR 42758). This collection involves the information that each applicant for an aircraft dispatcher certificate or FAA approval of an aircraft dispatcher course must submit to the FAA to comply with 14 CFR part 65, subpart C and Appendix A. These applications, reports and training course materials are provided to the responsible Flight Standards Office of the FAA that oversees the certificates and FAA approvals.

This collection involves the knowledge testing that each applicant for an aircraft dispatcher certificate must successfully complete or information required to obtain FAA approval of an aircraft dispatcher course in order to comply with 14 CFR part 65, subpart C and Appendix A. These applications, reports and training course materials are provided to the responsible Flight Standards Office of the FAA which oversees the certificates and FAA approvals.

The collection is necessary for the FAA to determine qualification and the ability of the applicant to safely dispatch aircraft. Without this collection of information, applicants for a certificate or course approval would not be able to receive certification or approval. The collection of information for those who choose to train aircraft dispatcher applicants is to protect the applicants by ensuring that they are properly trained.

Respondents: 1,288.

Frequency: On occasion.

Estimated Average Burden per Response: 4.8 hours.

Estimated Total Annual Burden: 6,351.47 hours.

Issued in Washington, DC, on October 24, 2018.
Barbara Hall,
FAA Information Collection Clearance Officer, Performance, Policy, and Records Management Branch, ASP-110.

[FR Doc. 2018-23722 Filed 10-30-18; 8:45 am]

BILLING CODE 4910-13-P